DEPARTMENT OF JUSTICE

Office of Justice Programs

[OJP(OVAW)-1373]

Meeting of the National Advisory Committee on Violence Against Women

AGENCY: Office on Violence Against Women, Office of Justice Programs, Justice.

ACTION: Notice of meeting.

SUMMARY: This notice sets forth the schedule and proposed agenda of a forthcoming public meeting of the National Advisory Committee on Violence Against Women (hereinafter “the Committee”).

DATES: The meeting will take place on February 20 from 9 a.m.-5 p.m., and on February 21 from 9 a.m.-2:15 p.m.

ADDRESS: The meeting will take place at the Adolphus Hotel, 1321 Commerce Street, Dallas, Texas 75202.

FOR FURTHER INFORMATION CONTACT: Omar A. Vargas, Special Assistant, The National Advisory Committee on Violence Against Women, 810 Seventh Street, NW, Washington, DC 20531. Telephone: (202) 307-6026. E-mail: AskNAC@ojp.usdoj.gov Fax: (202) 307-3911. View the Committee's Web site at: http://www.ojp.usdoj.gov/vawo/nac/welcome.html

SUPPLEMENTARY INFORMATION: The Committee is chartered by the Attorney General, and co-chaired by the Attorney General and the Secretary of Health and Human Services (the Secretary), to provide the Attorney General and the Secretary with practical and general policy advice concerning implementation of the Violence Against Women Act of 1994, the Violence Against Women Act of 2000, and related laws, and will assist in the efforts of the Department of Justice and the Department of Health and Human Services to combat violence against women, especially domestic violence, sexual assault, and stalking.

In addition, because violence is increasingly recognized as a public health problem of staggering human cost, the Committee will bring national attention to the problem of violence against women and increase public awareness of the need for prevention and enhanced victim services.

This meeting will primarily focus on organizational and planning aspects of the Committee's work; however there will be an opportunity for public comment on the Committee's role in providing general policy guidance on implementation of the Violence Against Women Act of 1994, the Violence Against Women Act of 2000, and related legislation.

Meeting Format

This meeting will be held according to the following schedule:

1. Date: Thursday, February 20, 2003.

Time: 9 a.m.-5 p.m., including breaks.

2. Date: Friday, February 21, 2003.

Time: 9 a.m.-11:45 am, sub-committees will convene in sessions not open to the public. 12 p.m.-2:15 p.m., the whole Committee will reconvene in a session open to the public.

The meeting scheduled for February 20, 2003 will begin with presentations from invited speakers representing Violence Against Women Act implementation by the Departments of Justice, and Health and Human Services. After the presentations by invited speakers, Committee members will consider their charge and convene subcommittees. Time will be reserved for comments from the public, beginning at 4:30 p.m. and ending at 5 p.m. See the section below on Reserving Time for Public Comment for information on how to reserve time on the agenda.

The meeting scheduled for February 21, 2003, will consist of review and discussion by the Committee of the charge and reports by the subcommittees regarding the Committee's work-plan and forthcoming recommendations to the Attorney General and the Secretary.

Attending the Meeting

The meeting on February 20, and the afternoon session of the meeting on February 21, will be open to the public. (The Committee will convene in closed sub-committee sessions on the morning of February 21, 2003, pursuant to 41 CFR 102-3.160.) Registrations for the public sessions will be accepted on a space available basis. Members of the public who wish to attend must register at least six (6) days in advance of the meeting by contacting Omar A. Vargas, Special Assistant, at the e-mail address or fax number listed above. Access to the meeting will not be allowed without registration, and all attendees will be required to sign in at the meeting registration desk. Please bring photo identification and allow extra time prior to the meeting.

Individuals who will need special accommodations for a disability in order to attend the meetings should notify Omar A. Vargas, Special Assistant, at the above e-mail address or by fax, no later than February 14, 2003. We will attempt to meet requests after this date, but cannot guarantee availability of the requested accommodation. The meeting site is accessible to individuals with disabilities.

Submitting Written Comments

Interested parties are invited to submit written comments to the Committee, by September 30, 2003, using one of the following methods: by e-mail to AskNAC@ojp.usdoj.gov; by fax on (202)-307-3911; or by mail to The National Advisory Committee on Violence Against Women, 810 Seventh Street, NW., Washington, DC 20531. Due to delays in mail delivery caused by heightened security, please allow adequate time for the mail to be received (we recommend 3-4 weeks).

Reserving Time for Public Comment

If you are interested in participating during the public comment period of the meeting, on the implementation of the Violence Against Women Act of 1994, and the Violence Against Women Act of 2000, you are requested to reserve time on the agenda by contacting the Office on Violence Against Women, Office of Justice Programs, U.S. Department of Justice by e-mail or fax. Please include your name, the organization you represent, if appropriate, and a brief description of the issue you would like to present. Participants will be allowed approximately 3 to 5 minutes to present their comments, depending on the number of individuals who reserve time on the agenda. Participants are also encouraged to submit two written copies of their comments at the meeting.

Given the expected number of individuals interested in providing comments at the meetings, reservations for presenting comments should be made as soon as possible. Persons who are unable to obtain reservations to speak during the meetings are encouraged to submit written comments, which will be accepted at each meeting site or may be mailed to the Committee at the address listed under the section on Submitting Written Comments.

Notice of this meeting is required under section 10(a)(2) of the Federal Advisory Committee Act.

Diane Stuart,
Director, Office on Violence Against Women.

[FR Doc. 03-3383 Filed 2-10-03; 8:45 am]

BILLING CODE 4410-18-P